DEPARTMENT OF HOUSING AND URBAN DEVELOPMENT

[Docket No. FR-4837-D-13]

Delegation of Authority to the President of the Government National Mortgage Association

AGENCY: Office of the Secretary, HUD.

ACTION: Notice of delegation of authority.

SUMMARY: The Secretary of HUD is delegating to the President, Government National Mortgage Association (Ginnie Mae), all authority of the Secretary with respect to management of Ginnie Mae and Ginnie Mae's programs, pursuant to Title III of the National Housing Act.

EFFECTIVE DATE: June 30, 2003.

FOR FURTHER INFORMATION CONTACT: Cheryl Owens, Government National Mortgage Association, Room 6286, Department of Housing and Urban Development, 451 Seventh Street, SW., Washington, DC 20410-9000; telephone (202) 708-2648 (this is not a toll-free number). Speech- or hearing-impaired individuals may access this number through TTY by calling the toll-free Federal Information Relay Service at 1-800-877-8339.

SUPPLEMENTARY INFORMATION: The Secretary is in the process of updating delegations issued to officials within the Department, including the President of Ginnie Mae, which is a wholly-owned government corporation within the Department, pursuant to 42 U.S.C. 3534(b). In this delegation of authority, the Secretary delegates to the President of Ginnie Mae all authority of the Secretary with respect to management of Ginnie Mae and Ginnie Mae's programs, pursuant to Title III of the National Housing Act, 12 U.S.C. 1716 et seq. In this document the Secretary retains authority under this statute and also delegates this authority to the President of Ginnie Mae.

Accordingly, the Secretary delegates authority as follows:

Section A. Authority Delegated

The President of Ginnie Mae is delegated the authority of the Secretary with respect to management of Ginnie Mae and Ginnie Mae's programs, pursuant to Title III of the National Housing Act, 12 U.S.C. 1716 et seq.

Section B. Authority To Redelegate

The authority delegated in this document may be redelegated by the President of Ginnie Mae in writing to officials in Ginnie Mae except the authority to issue and waive regulations.

Section C. Authority Excepted

The authority delegated in this document does not include the authority to sue and be sued.

Authority: Section 7(d), Department of Housing and Urban Development Act, 42 U.S.C. 3535(d).

Dated: June 30, 2003.
Mel Martinez,
Secretary.

[FR Doc. 03-17768 Filed 7-14-03; 8:45 am]

BILLING CODE 4210-66-P